DEPARTMENT OF JUSTICE

Antitrust Division

Notice Pursuant to the National Cooperative Research and Production Act of 1993—Medical CBRN Defense Consortium

Notice is hereby given that, on March 29, 2021, pursuant to Section 6(a) of the National Cooperative Research and Production Act of 1993, 15 U.S.C. 4301 et seq. (“the Act”), Medical CBRN Defense Consortium (“MCDC”) has filed written notifications simultaneously with the Attorney General and the Federal Trade Commission disclosing changes in its membership. The notifications were filed for the purpose of extending the Act's provisions limiting the recovery of antitrust plaintiffs to actual damages under specified circumstances. Specifically, AAG Associates LLC, Pocasset, MA; Arrevus, Inc., Raleigh, NC; Chemring Sensors & Electronic Systems, Inc., Charlotte, NC; Federal Resources Supply Company, Stevensville, MD; Genovac Antibody Discovery, Fargo, ND; Hager Biosciences LLC, Bethlehem, PA; Healion Bio, Inc., Ijamsville, MD; Immunome, Inc., Exton, PA; Invenra, Inc., Madison, WI; Optoknowledge, Torrance, CA; Sanaria, Inc., Rockville, MD; Tao Treasures dba Nanobiofab, Frederick, MD; TFF Pharmaceuticals, Inc., Austin, TX; The University of Nebraska at Omaha, Omaha, NE; The University of California Los Angeles, Los Angeles, CA and Tiber Creek Partners LLC, Oakton, VA have been added as parties to this venture.

Also, Abiogenix, Inc., Rochester, MI; Blade Therapeutics, Inc., South San Francisco, CA; South San Francisco, CA; Bluejay Diagnostics, Inc., Acton, MA; Claremont Biosolutions LLC, Upland, CA; Decisive Point LLC, Alexandria, VA; Efiia Consulting LLC, Falls Church, VA; Equillium, Inc., La Jolla, CA; GenScript USA, Inc.; LDS Technology Consultants, Inc., Warwick, PA; Lillian Bay Holdings LLC, Saint Petersburg, FL; Massachusetts Eye and Ear Infirmary, Boston, MA; PhaseBio Pharmaceuticals, Inc., Malvern, PA; Planet Biotechnology, Inc., Hayward, CA; Shift Labs, Inc., Seattle, WA; The University of California San Diego, La Jolla, CA; ThermoAnalytics, Inc., Calumet, MI and United National Native Council, Payson, AZ have withdrawn as parties to this venture.

No other changes have been made in either the membership or planned activity of the group research project. Membership in this group research project remains open, and MCDC intends to file additional written notifications disclosing all changes in membership.

On November 13, 2015, MCDC filed its original notification pursuant to Section 6(a) of the Act. The Department of Justice published a notice in the Federal Register pursuant to Section 6(b) of the Act on January 6, 2016 (81 FR 513).

The last notification was filed with the Department on January 08, 2021. A notice was published in the Federal Register pursuant to Section 6(b) of the Act on January 19, 2021 (86 FR 5250).

Suzanne Morris,
Chief, Premerger and Division Statistics, Antitrust Division.

[FR Doc. 2021-08078 Filed 4-19-21; 8:45 am]

BILLING CODE P